DEPARTMENT OF THE TREASURY

Internal Revenue Service

26 CFR Part 1

[TD 9350]

RIN 1545-BE24

AJCA Modifications To the Section 6011 Regulations; Correction

AGENCY: Internal Revenue Service (IRS), Treasury.

ACTION: Correction to final regulations.

SUMMARY: This document contains a correction to final regulations (TD 9350) which were published in the Federal Register on Friday, August 3, 2007 (72 FR 43146) that modify the rules relating to the disclosure of reportable transactions under section 6011.

DATES: This correction is effective on May 11, 2010, and is applicable on August 3, 2007.

FOR FURTHER INFORMATION CONTACT: Charles D. Wien or Michael H. Beker, (202) 622-3070 (not a toll-free number).

SUPPLEMENTARY INFORMATION:

Background

The final regulations (TD 9350) that are the subject of this document are under section 6011 of the Internal Revenue Code.

Need for Correction

As published, the final regulations (TD 9350) contain an error that may prove to be misleading and is in need of clarification.

Correction of Publication

Accordingly, the publication of the final regulations (TD 9350) which were the subject of FR Doc. 07-3786, is corrected as follows:

On page 43146, column 2, in the preamble, under the caption heading FOR FURTHER INFORMATION CONTACT, the language “Charles D. Wien, Michael H. Beker, or Tolsun N. Waddle, 202-622-3070 (not a toll-free number).” is removed and replaced with the language “Charles D. Wien or Michael H. Beker, 202-622-3070 (not a toll-free number).”.

LaNita Van Dyke,
Chief, Publications and Regulations Branch, Legal Processing Division, Associate Chief Counsel (Procedure and Administration).

[FR Doc. 2010-11079 Filed 5-10-10; 8:45 am]

BILLING CODE 4830-01-P